DEPARTMENT OF STATE

[Public Notice 12232]

60-Day Notice of Proposed Information Collection: I2U2 Project Proposal Submission Template

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 18, 2023.

ADDRESSES: You may submit comments by any of the following methods:

• Web: Persons with access to the internet may comment on this notice by going to www.regulations.gov. You can search for the document by entering “Docket Number: DOS-2023-0033” in the Search field. Then click the “Comment Now” button and complete the comment form.

• Email: I2U2@state.gov.

You must include the information collection title and the OMB control number in any correspondence.

SUPPLEMENTARY INFORMATION:

• Title of Information Collection: I2U2 Project Proposal Submission Template.

• OMB Control Number: 1405-0261.

• Type of Request: Extension of a currently approved collection.

• Originating Office: Office of the Under Secretary for Economic Growth, Energy, and the Environment.

• Respondents: Individuals.

• Estimated Number of Respondents: 10.

• Estimated Number of Responses: 10.

• Average Time per Response: 1 hour.

• Total Estimated Burden Time: 10 hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

I2U2 is a partnership between the heads of government of India, Israel, the United Arab Emirates, and the United States. This grouping of countries identifies bankable projects and initiatives, with a particular focus on joint investments and new initiatives in water, energy, transportation, space, health, food security, and technology. The I2U2 initiative aims to mobilize private sector capital and expertise to achieve a variety of economic goals.

The purpose of this collection is to gather the required details necessary to determine if applicants' projects qualify to participate in the I2U2 initiative. This information is necessary to select participants and share information with I2U2 partners. The window to receive project proposals will remain open as long as the I2U2 initiative exists.

I2U2 will consider projects and initiatives on an individual basis that meet the following criteria:

1. Fall into at least one of these seven sectors: water, climate/energy, transportation, space, health, food security, or technology.

2. Preferably operate in the Middle East, India, the United States, or Africa. However, the I2U2 Group will consider opportunities anywhere in the world.

3. Allow each of the four partner countries to benefit from and/or contribute to the project. Priority will be given to projects based on cooperation and/or involvement of participants from all four I2U2 partner countries.

Respondents will access to the form at www.state.gov/I2U2. Following these criteria, the form asks individuals to select the applicable sectors and explain the proposed role of/benefits to each partner country. The form also requests details about the project submitter, any monetary and nonmonetary requests, and a description of the project and timeline. I2U2 will utilize this form for vetting, review, and selection of project submissions. Submitters may also optionally provide additional supporting documentation, such as a detailed budget, marketing brochure, or other relevant materials.

Methodology

The collection will be completed 100 percent electronically. The respondent will complete the form online and submit the form by email to I2U2@state.gov.

Kevin E. Bryant,
Deputy Director, Office of Directives Management, Department of State.

[FR Doc. 2023-22950 Filed 10-17-23; 8:45 am]

BILLING CODE 4710-10-P